DEPARTMENT OF THE TREASURY

Internal Revenue Service

26 CFR Part 301

[TD 9378]

RIN 1545-BE35

Release of Lien or Discharge of Property; Correction

AGENCY: Internal Revenue Service (IRS), Treasury.

ACTION: Correcting amendments.

SUMMARY: This document contains corrections to final regulations (TD 9378) that were published in the Federal Register on Thursday, January 31, 2008 (73 FR 5741) relating to release of lien and discharge of property under sections 6325, 6503 and 7423 of the Internal Revenue Code. These regulations update existing regulations and contain procedures for processing a request made by a property owner for discharge of a Federal tax lien from his property under section 6325(b)(4). The regulations also clarify the impact of these procedures on sections 6503(f)(2) and 7426(a)(4) and (b)(5).

DATES: The correction is effective February 22, 2008.

FOR FURTHER INFORMATION CONTACT: Debra A. Kohn, (202) 622-7985 (not a toll-free number).

SUPPLEMENTARY INFORMATION:

Background

The final regulations (TD 9378) that are the subject of the correction are under sections 6325, 6503 and 7426 of the Internal Revenue Code.

Need for Correction

As published, final regulations (TD 9378) contain errors that may prove to be misleading and are in need of clarification.

List of Subjects in 26 CFR Part 301

Employment taxes, Estate taxes, Excise taxes, Gift taxes, Income taxes, Penalties, Reporting and recordkeeping requirements.

Correction of Publication

Accordingly, 26 CFR part 301 is corrected by making the following amendments:

PART 301—PROCEDURE AND ADMINISTRATION

Paragraph 1. The authority citation for part 301 continues to read, in part, as follows:

Authority: 26 U.S.C. 7805 * * *

Par. 2. Section 301.6325-1 is amended by revising the second sentence of paragraph (b)(2)(i) and first sentence of paragraph (b)(4)(ii) to read as follows:

§ 301.6025-1 Release of lien or discharge of property.

* * * * *

(b) * * *

(2) * * *

(i) * * * In determining the amount to be paid, the appropriate official will take into consideration all the facts and circumstances of the case, including the expenses to which the government has been put in the matter. * * *

* * * * *

(4) * * *

(ii) * * * The appropriate official may, in his discretion, determine that either the entire unsatisfied tax liability listed on the notice of Federal tax lien can be satisfied from a source other than the property sought to be discharged, or the value of the interest of the United States is less than the prior determination of such value. * * *

* * * * *

LaNita Van Dyke,
Chief, Publications and Regulations Branch, Legal Processing Division, Associate Chief Counsel (Procedure and Administration).

[FR Doc. E8-3103 Filed 2-21-08; 8:45 am]

BILLING CODE 4830-01-P